DEPARTMENT OF TRANSPORTATION

Federal Railroad Administration

[Docket No. FRA-2024-0007]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before December 3, 2024.

ADDRESSES: Written comments and recommendations for the proposed ICR should be submitted on https://www.regulations.gov/ to the docket, Docket No. FRA-2024-0007. All comments received will be posted without change to the docket, including any personal information provided. Please refer to the assigned OMB control number (2130-0615) in any correspondence submitted. FRA will summarize comments received in a subsequent 30-day notice.

FOR FURTHER INFORMATION CONTACT: Ms. Joanne Swafford, Information Collection Clearance Officer, at email: joanne.swafford@dot.gov or telephone: (757) 897-9908, or Ms. Arlette Mussington, Information Collection Clearance Officer, at email: arlette.mussington@dot.gov or telephone: (571) 609-1285.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Grants Management Requirements for Federal Railroad Administration. Grant Awards and Cooperative Agreements.

OMB Control Number: 2130-0615.

Abstract: FRA solicits grant applications through a multitude of grant programs for projects including, but not limited to, preconstruction planning activities, safety improvements, congestion relief, improvement of grade crossings, rail line relocation, as well as projects that encourage development, expansion, and upgrades to passenger and freight rail infrastructure and services. FRA funds projects that meet FRA and government-wide evaluation standards and align with the DOT Strategic Plan.

FRA requires systematic and uniform collection and submission of information, as approved by OMB, to ensure accountability of Federal assistance provided by FRA. Through this information collection, FRA will measure Federal award recipients' performance and results, including expenditures in support of agreed-upon activities and allowable costs outlined in the standard FRA Notice of Grant Award sent to the recipients.

This information collection includes OMB-required reports and documentation, as well as additional forms and submissions to compile data relevant to addressing FRA's important policy challenges, promoting cost-effectiveness in FRA programs, and providing effective oversight of programmatic and financial performance. FRA issues and manages awards in compliance with 2 CFR part 200; Uniform Administrative Requirements, Cost Principles, and Audit Requirements for Federal Awards.

Specifically, FRA is proposing to add one new form; revise two existing forms; and discontinue a form that is no longer required, as outlined below. Additionally, to conform with FRA's policy and Forms Management Program,¹ the required prefix, “6180”, is being added to the form number of all existing FRA forms that are included in this information collection, with the exception of FRA F 33.² This change complies with the formatting requirement issued by FRA Order 1322.1A that all required public forms include the number 6180 as a prefix as part of the form number.

¹ FRA 1322.1A (May 19, 2010).

² Updating this form with a 6180 prefix would create a duplication form number as FRA F 6180.33 is an existing public FRA form. To avoid duplication, FRA is not updating this form to include the 6180 prefix.

FRA is proposing to add new form, FRA F 6180.288 titled, Pre-Award Authority Request Form. Currently, FRA accepts requests for pre-award authority via a letter from the award recipient. The purpose of FRA F 6180.288 is to allow recipients who would like to incur eligible pre-award costs to request pre-award authority from FRA by submitting a standardized form. This form streamlines the information collection processes and FRA's subsequent review of the request. The form also directs the recipient to confirm that they understand pre-award costs are considered at-risk until the grant agreement has been executed, and that FRA will authorize such pre-award costs only to the extent they are allowable under the terms of the grant agreement.

FRA is updating existing FRA F 6180.31 Grant Adjustment Request Form (GARF) to make the following edits: The term “Grantee” has been changed to “Recipient”. On page 1, the first use of “NGA” has been defined (Notice of Grant Award). At the top of page 3—changing “regional manager “to “project manager”; page 5.—box F, the prompt has been updated to, “If this is an OST program (e.g., INFRA, MEGA, RAISE), has OST approved the adjustment? If no, do not proceed until you have obtained OST approval”; added “N/A” checkbox; changed footer date to “(03/2023)”; an “N/A” checkbox was added; and page 5, Section V, a financial field has been added next to “If yes, denote the amount of needed Federal funds:”, and changed the first signature required on top of page 6 from “RFM” to “RCFO”. These revisions are all items that FRA completes, and not the recipient.

FRA is updating existing form FRA F 6180.34 Quarterly Progress Report with the following edits: Added a certification checkbox after Field 10 for the grantee to mark. The updated FRA F 6180.34 also removes questions 11, 19, 20, 21, 22, 23, 24, 26a, and 26b.

In addition, FRA is requesting to discontinue the use of FRA F 6180.35 Grant Application Form. After careful review, FRA has determined that this form has not been used in several years and applications are currently received by SF-424 Application for Federal Assistance. Continuing to use FRA F 6180.35 creates duplicative burden for applicants.

In this 60-day notice, FRA has made program changes and adjustments that have decreased the previously approved burden hours from 31,811 hours to 28,869 hours. Additional grant funding authorized by the Bipartisan Infrastructure Law (BIL) has significantly increased grant applications and FRA has made adjustments that more accurately reflect the estimated number of submissions over this three-year collection period. These adjustments, and the proposed new form, FRA F 6180.288 Pre-Award Authority Request, created an increase in burden hours of 5,558 hours, however the discontinuance of FRA F 6180.35 Grant Application Form reduced the burden by 8,500 hours. This resulted in an overall reduction in burden of 2,942 hours.

Type of Request: Revision of a currently approved collection.

Form(s): FRA F 6180.30; FRA F 6180.31(revised); FRA F 6180.32; FRA F 6180.33; FRA F 6180.34 (revised); FRA F 6180.217; FRA F 6180.229; FRA F 6180.251; FRA F 6180.252; FRA F 6180.288 (new); SF 270; SF 424; SF 424A; SF 424B; SF 424C; SF 424D; SF 425; SF LLL.

Affected Public: Generally, includes States, local governments, and railroads.

Frequency of Submission: Varied; on occasion/monthly.

Reporting Burden:

Form name | Form No. | Grant activity/ Process | Respondent universe | Average time per responses in hours | Total annual burden hours | Total cost equivalent in U.S. dollar
|  |  | (A) | (B) | (C = A * B) | (D = C * wage rates) ³
Application for Federal Assistance | SF 424 | Application | 1000 | 1.10 | 1,100 | $50,391.00
Budget Information for Non-Construction Programs | SF 424A | Application | 500 | 3.00 | 1,500 | 68,715.00
Assurances for Non-Construction Programs | SF 424B | Application | 500 | 0.25 | 125 | 5,726.25
Budget Information for Construction Programs | SF 424C | Application | 500 | 3.00 | 1,500 | 68,715.00
Assurances for Construction Programs | SF 424D | Application | 500 | 0.25 | 125 | 5,726.25
Disclosure of Lobbying Activities | SF LLL | Application | 1000 | 0.17 | 170 | 7,787.70
Applicant Financial Capability Questionnaire | FRA F 6180.251 | Application | 1000 | 2.00 | 2,000 | 91,620.00
FRA Assurances and Certifications Regarding Lobbying; Debarment, Suspension and Other Responsibility Matters and Drug-Free Workplace Requirements | FRA F 6180.30 | Application | 1000 | 0.25 | 250 | 11,452.50
Pre-Award Authority Request—Project Sponsors that wish to incur pre-award expenses can apply for pre-award authority. (New Form) | FRA F 6180.288 | Pre-Award | 100 | 3.00 | 300 | 13,743.00
Federal Financial Report ⁴ (SF 425; new awards) | SF 425 | Awards & Maintenance | 500 | 1.50 | 750 | 34,357.50
Federal Financial Report ⁵ (SF 425; existing grantees) | SF 425 | Awards & Maintenance | 864 | 1.50 | 1,296 | 59,369.76
Request for Advance or Reimbursement | SF 270 | Awards & Maintenance | 860 | 1.00 | 860 | 39,396.60
Payment Summary Spreadsheet | SF 252 | Awards & Maintenance | 860 | 0.50 | 430 | 19,698.30
Quarterly Progress Report ⁶ (FRA F 34; new awards) Revised form | FRA F 6180.34 | Awards & Maintenance | 500 | 2.00 | 1,000 | 45,810.00
Quarterly Progress Report ⁷ (FRA F 34; existing grantees) Revised form | FRA F 6180.34 | Awards & Maintenance | 864 | 2.00 | 1,728 | 79,159.68
Grant Adjustment Request Form (GARP) Revised form | FRA F 6180.31 | Awards & Maintenance | 212 | 1.00 | 212 | 9,711.72
Service Outcome Agreement (SOA) Annual Reporting | FRA F 6180.32 | Awards & Maintenance | 24 | 1.00 | 24 | 1,099.44
Certification of Compliance or Non-Compliance with Buy America Requirements for Steel, Iron, Construction Materials, and Manufactured Products being produced by Awardee (narrative request) | Narrative Request | Buy America Component | 15 | 4.00 | 60 | 2,748.60
Certification of Compliance with Buy America for Rolling Stock (narrative request) | Narrative Request | Buy America Component | 1 | 62.00 | 62 | 2,840.22
Waivers—Requests/Applications for Waivers, excluding FRA Form 229 (narrative request) | Narrative Request | Buy America Component | 15 | 80.00 | 1,200 | 54,972.00
NIST Manufacturing Extension Partnership Supplier Scouting—FRA—Item Opportunity Synopsis | FRA F 6180.229 | Buy America Component | 15 | 18.00 | 270 | 12,368.70
Awardee Investigations (including FRA initiated investigations) | Narrative Request | Buy America Component | 3 | 333.00 | 999 | 45,764.19
Awardee direct reply to FRA after request to conduct investigation of bidder/offeror (narrative request) | Narrative Request | Buy America Component | 2 | 1.00 | 2 | 91.62
Additional Documents to FRA from Awardee/Investigated Party (narrative request) | Narrative Request | Buy America Component | 1 | 4.00 | 4 | 183.24
Transmission of Awardee/Bidder/Offeror Reply to Petitioner (narrative request) | Narrative Request | Buy America Component | 1 | 4.00 | 4 | 183.24
Awardee/Investigated Bidder/Offeror response to Petitioner Comment (narrative request) | Narrative Request | Buy America Component | 1 | 8.00 | 8 | 366.48
Written request to FRA for information bearing on substance of investigation which has been submitted by petitioner, interested parties, or awardees (narrative request) | Narrative Request | Buy America Component | 1 | 4.00 | 4 | 183.24
Detailed Statement to FRA Regarding Confidentiality of Previously Submitted Information to Agency (narrative request) | Narrative Request | Buy America Component | 1 | 8.00 | 8 | 366.48
Awardee Determination to make award before resolution of investigation one of these sections specified reasons (narrative request) | Narrative Request | Buy America Component | 1 | 40.00 | 40 | 1,832.40
Notification to FRA by Awardee to make award during pendency of investigation (narrative request) | Narrative Request | Buy America Component | 1 | 1.00 | 1 | 45.81
Request to FRA for Reconsideration of Initial Decision by Party Involved in Investigations (narrative request) | Narrative Request | Buy America Component | 1 | 80.00 | 80 | 3,664.80
Pre-Award Audit (narrative request) | Narrative Request | Buy America Component | 1 | 33.00 | 33 | 1,511.73
Final Contract between Awardee and Bidder/Offeror (narrative request) | Narrative Request | Buy America Component | 1 | 16.00 | 16 | 732.96
Post Award Audit (narrative request) | Narrative Request | Buy America Component | 1 | 256.00 | 256 | 11,727.36
Rolling Stock Domestic Content Improvement Plans (narrative request) | Narrative Request | Buy America Component | 1 | 120.00 | 120 | 5,497.20
Categorical Exclusion Worksheet) | FRA F 6180.217 | Awards & Maintenance | 75 | 156.00 | 11,700 | 535,977.00
Final Performance Report | FRA F 33 | Closeout | 79 | 8.00 | 632 | 28,951.92
Total ⁸ |  |  | 11,001 responses |  | 28,869 hours | 1,322,489

Total Estimated Annual Responses: 11,001.

³ The dollar equivalent cost is derived from the May 2022 Department of Labor, Bureau of Labor Statistics (BLS), using the median hourly wage rate for a Management Analyst 13-1111 of $45.81.

⁴ An estimated 125 new awardees submit each quarter—125 × 4 = 500 respondents.

⁵ An estimated 216 existing awardees submit each quarter—216 × 4 = 864 respondents.

⁶ An estimated 125 new awardees submit each quarter—125 × 4 = 500 respondents.

⁷ An estimated 216 existing awardees submit each quarter—216 × 4 = 864 respondents.

⁸ Total cost equivalent was rounded.

Total Estimated Annual Burden: 28,869 hours.

Total Estimated Annual Burden Hour Dollar Cost Equivalent: $1,322,489.

FRA informs all interested parties that it may not conduct or sponsor, and a respondent is not required to respond to, a collection of information that does not display a currently valid OMB control number.

Authority: 44 U.S.C. 3501-3520.

Christopher S. Van Nostrand
Deputy Chief Counsel.

[FR Doc. 2024-22953 Filed 10-3-24; 8:45 am]

BILLING CODE 4910-06-P